SECURITIES AND EXCHANGE COMMISSION

[Release No. 34-48295; File No. SR-CSE-2003-08]

Self-Regulatory Organizations; Notice of Filing and Immediate Effectiveness of Proposed Rule Change by the Cincinnati Stock Exchange, Inc. Relating to Its Schedule of Fees

August 7, 2003.

Pursuant to Section 19(b)(1) of the Securities Exchange Act of 1934 (“Act”),¹ and Rule 19b-4 thereunder,² notice is hereby given that on July 21, 2003, the Cincinnati Stock Exchange, Inc. (“CSE” or “Exchange”) filed with the Securities and Exchange Commission (“Commission” or “SEC”) the proposed rule change as described in Items I, II and III below, which the CSE has prepared. The CSE has designated this proposal as one establishing or changing a due, fee, or other charge imposed by the Exchange under Section 19(b)(3)(A)(ii) of the Act,³ which renders the proposal effective upon filing with the Commission. The Commission is publishing this notice to solicit comments on the proposed rule change from interested persons.

¹ 15 U.S.C. 78s(b)(1).

² 17 CFR 240.19b-4.

³ 15 U.S.C. 78s(b)(3)(A)(ii).

I. Self-Regulatory Organization's Statement of the Terms of Substance of the Proposed Rule Change

The Exchange hereby proposes to amend its schedule of fees to address recent developments in the cost of doing business on the CSE.⁴ The text of the proposed rule change is below. Proposed additions are in italics and proposed deletions are in brackets.

⁴ These costs include, for example, increased hardware and software expenses, increased capacity and technical support costs, and personnel-related expenses. Telephone call between Jennifer M. Lamie, Assistant General Counsel, CSE and Ian K. Patel, Staff Attorney, Commission (August 5, 2003).

* * * * *

Chapter XI Trading Rules

Rule 11.10 National Securities Trading System Fees

A. Trading Fees

(a)-(l) No change.

(m) DD Issue/Book Fees. Designated Dealers will be charged a monthly book fee based on the following incremental schedule:

Number of issues | Fee per issue
0 to 150 | $[25]30.00
151 to 300 | [15]20.00
301 to 500 | [10]15.00
50[0]1 and higher | [1]2.00

(n) No change to text.

(o) Technology Fee. Every Member of the Exchange shall be assessed a fee of $[750]1,250.00 per month to help offset technology expenses incurred by the Exchange.

(p)-(q) No change.

(r) Workstation Fee. Every member using the Exchange Workstation shall be charged $[500]750.00 per device per month.

B.-C. No change.

* * * * *

II. Self-Regulatory Organization's Statement of the Purpose of, and Statutory Basis for, the Proposed Rule Change

In its filing with the Commission, the Exchange included statements concerning the purpose of and basis for its proposal and discussed any comments it received regarding the proposal. The text of these statements may be examined at the places specified in Item IV below. The CSE has prepared summaries, set forth in Sections A, B and C below, of the most significant aspects of such statements.

A. Self-Regulatory Organization's Statement of the Purpose of, and Statutory Basis for, the Proposed Rule Change

1. Purpose

The Exchange is proposing three amendments to the CSE Rules governing fees. The first proposed rule change amends subsection (m) to CSE Rule 11.10(A), Designated Dealer Issue/Book Fees. Subsection (m) currently provides that Designated Dealers will be charged a monthly book fee of $25 per each of the first 150 issues, $15 for each of the next 150 issues, $10 for each of the next 200 issues, and $1 for each remaining issue. The amended rule will provide that Designated Dealers will now be charged $30, $20, $15 and $2 per each of the respective increments. The second proposed rule change amends subsection (o) to CSE Rule 11.10(A), Technology Fee. Subsection (o) currently provides that every member be assessed a fee of $750 per month to help offset technology expenses incurred by the Exchange. The amended rule will provide that members be charged $1,250 per month. The third proposed rule change amends subsection (r) to CSE Rule 11.10(A), Workstation Fee. Subsection (r) currently provides that every member using the Exchange Workstation be assessed a fee of $500 per device per month. The amended rule will provide that members using the Workstation will now be charged $750 per device per month.

2. Statutory Basis

The Exchange believes that the proposed rule change is consistent with Section 6(b) of the Act in general,⁵ and Section 6(b)(4) ⁶ in particular, in that it is designed to provide for the equitable allocation of reasonable dues, fees, and other charges among Exchange members on a pro rata basis.

⁵ 15 U.S.C. 78f(b).

⁶ 15 U.S.C. 78f(b)(4).

B. Self-Regulatory Organization's Statement on Burden on Competition

The CSE does not believe that the proposed fee change will impose any inappropriate burden on competition.

C. Self-Regulatory Organization's Statement on Comments on the Proposed Rule Change Received From Members, Participants or Others

No written comments were solicited or received with respect to the proposed rule change.

III. Date of Effectiveness of the Proposed Rule Change and Timing for Commission Action

The proposed rule change has become effective pursuant to Section 19(b)(3)(A)(ii) of the Act ⁷ and subparagraph (f)(2) of Rule 19b-4 thereunder,⁸ because it establishes or changes a due, fee, or other charge imposed by the CSE. At any time within 60 days of the filing of the proposed rule change, the Commission may summarily abrogate such rule change if it appears to the Commission that such action is necessary or appropriate in the public interest, for the protection of investors, or otherwise in furtherance of the purposes of the Act.

⁷ 15 U.S.C. 78s(b)(3)(A)(ii).

⁸ 17 CFR 240.19b-4(f)(2).

IV. Solicitation of Comments

Interested persons are invited to submit written data, views, and arguments concerning the foregoing, including whether the proposal is consistent with the Act. Persons making written submissions should file six copies thereof with the Secretary, Securities and Exchange Commission, 450 Fifth Street, NW, Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the CSE. All submissions should refer to file number SR-CSE-2003-08 and should be submitted by September 8, 2003.

For the Commission, by the Division of Market Regulation, pursuant to delegated authority.⁹
⁹ 17 CFR 200.30-3(a)(12).
Jill M. Peterson,
Assistant Secretary.

[FR Doc. 03-20957 Filed 8-15-03; 8:45 am]

BILLING CODE 8010-01-P